DEPARTMENT OF COMMERCE

National Oceanic and Atmospheric Administration

[I.D. 091800B]

Western Pacific Fishery Management Council; Public Meeting

AGENCY: National Marine Fisheries Service (NMFS), National Oceanic and Atmospheric Administration (NOAA), Commerce.

ACTION: Notice of public meeting.

SUMMARY: The Western Pacific Fishery Management Council will convene its 75th meeting of the Scientific and Statistical Committee (SSC).

DATES: The meeting will be held October 10-12, 2000. See SUPPLEMENTARY INFORMATION for specific dates and times.

ADDRESSES: The meeting will be held at the Council office conference room, 1164 Bishop St., Suite 1400, Honolulu, Hawaii; telephone: (808-522-8220). Council Address: Western Pacific Fishery Management Council, 1164 Bishop St., Suite 1400, Honolulu, HI, 96813.

FOR FURTHER INFORMATION CONTACT: Kitty M. Simonds, Executive Director; telephone 808-522-8220.

SUPPLEMENTARY INFORMATION: The SSC will discuss and may make recommendations to the Council on the agenda items here. The order in which agenda items will be addressed can change.

Tuesday, October 10, 2000, from 9 to 5 p.m.

1. Precious corals fishery

A. Status of 1999 framework adjustment regarding new harvesting requirements

B. Status of 2000 framework adjustment regarding Hawaiian Islands exploratory area quota increase

C. Process of defining new beds

D. September Northwestern Hawaiian Islands (NWHI) research surveys

E. Precious Corals Plan Team/Advisory Panel recommendations

F. Review of Precious Corals Environmental Impact Statement(EIS)

2. Crustaceans Fishery Management Plan (FMP) issues

A. Status of research and stock assessment activities and plans

B. Plans for experimental fishery in NWHI

C. 5-Year review of Amendment 9

D. Status of litigation

E. Overcapitalization of the NWHI fishery

F. Review of the Crustaceans EIS

3. Bottomfish FMP issues

A. Status of litigation/observer program

B. Review of Bottomfish EIS

Wednesday, October 11, 2000, from 8:30 to 5 p.m.

1. Pelagic FMP issues

A. 2nd quarter 2000 Hawaii and American Samoa longline fishery report

B. American Samoan framework measure

C. Recreational fisheries

(i) Marine Recreational Fishing Statistical Survey

D. Shark management

(i) Blue shark stock assessment

(ii) Status of amendment 9

E. Seabird management

(i) Status of framework measures/biological opinion on Short-tail albatross

F. Turtle management

(i) Ongoing litigation

(ii) Draft EIS

(iii) Turtle Mitigation Working Group

G. NMFS overfishing/Maximum Sustainable Yield workshop

H. Transition Zone Chlorophyl Front

I. Pelagics research/ecological simulation model

J. Pelagics FMP 5-year review: Terms-of-reference

K. Palmyra Atoll- recreational/longline/handline area closures

L. International:

(i) Outcome of Multilateral High Level Conference 7

(ii) Standing Committee on Tuna and Billfish 13

(iii) Food & Agricultural Organization consultation on illegal, unreported and unregulated fishing

M. Other issues

Thursday, October 12, 2000, from 8:30 to 5 p.m.

1. Ecosystem and Habitat

A. Draft Coral Reef Ecosystem FMP draft EIS

(i) Summary

(ii) Review of (initial) public comments

B. President’s vision for NWHI coral reefs

(i) Department of Commerce/Department of the Interior recommendations

(ii) President’s action

C. Other issues

2. Other business

A. Status of Congressional legislation

B. Magnuson-Stevens Act legislation

C. Draft amendments to add fisheries off the Commonwealth of the Northern Mariana Islands and the Pacific Remote Island Areas (PRIA) to FMPs

D. Sustainable Fisheries Act overfishing amendments to FMPs

E. Status of bioprospecting operations

Although non-emergency issues not contained in this agenda may come before this Council for discussion, in accordance with the Magnuson-Stevens Fishery Conservation and Management Act, those issues may not be the subject of formal Council action during this meeting. Action will be restricted to those issues specifically listed in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Kitty M. Simonds, 808-522-8220 (voice) or 808-522-8226 (fax), at least 5 days prior to the meeting date.

Dated: September 18, 2000.
Richard W. Surdi,
Acting Director, Office of Sustainable Fisheries, National Marine Fisheries Service.

[FR Doc. 00-24453 Filed 9-21-00; 8:45 am]

BILLING CODE: 3510-22 -S